DEPARTMENT OF COMMERCE

National Telecommunications and Information Administration

Broadband Grant Programs Webinar Series

AGENCY: National Telecommunications and Information Administration, U.S. Department of Commerce.

ACTION: Notice of change to schedule for Open Meetings—NTIA Broadband Grant Programs Webinars.

SUMMARY: On March 19, 2021, the National Telecommunications and Information Administration (NTIA) published a Notice in the Federal Register announcing a webinar series in connection with the three new broadband grant programs authorized and funded by the Consolidated Appropriations Act, 2021. This Notice announces changes to the dates on which the webinars will be held.

DATES: NTIA will offer webinars on the following dates:

1. Broadband Infrastructure Program:

○ April 28 & 29 at 2:30 p.m. Eastern Daylight Time (EDT)

○ May 12 & 13 at 2:30 p.m. EDT

○ June 9 & 10 at 2:30 p.m. EDT

○ July 14 & 15 at 2:30 p.m. EDT

2. Tribal Broadband Connectivity Program:

○ April 21 & 22 at 2:30 p.m. EDT

○ May 19 & 20 at 2:30 p.m. EDT

○ June 16 & 17 at 2:30 p.m. EDT

○ July 21 & 22 at 2:30 p.m. EDT

3. Connecting Minority Communities:

○ May 5 & 6 at 2:30 p.m. EDT

○ May 26 & 27 at 2:30 p.m. EDT

○ June 23 & 24 at 2:30 p.m. EDT

○ July 28 & 29 at 2:30 p.m. EDT

ADDRESSES: These are virtual meetings. NTIA will post the registration information on its BroadbandUSA website, https://broadbandusa.ntia.doc.gov, under Events.

FOR FURTHER INFORMATION CONTACT: Christopher Holt, National Telecommunications and Information Administration, U.S. Department of Commerce, Room 4872, 1401 Constitution Avenue NW, Washington, DC 20230; telephone: (202) 482-4884; email: BroadbandUSAwebinars@ntia.gov. Please direct media inquiries to NTIA's Office of Public Affairs, (202) 482-7002; email press@ntia.gov.

SUPPLEMENTARY INFORMATION: Division N, Title IX—Broadband Internet Access Service, of the Consolidated Appropriations Act, 2021 (Pub. L. 116-260) authorized and funded three new broadband grant programs to be administered by NTIA: The Broadband Infrastructure Program, the Tribal Broadband Connectivity Program, and the Connecting Minority Community Program. On March 19, 2021, NTIA published a Notice in the Federal Register announcing a webinar series designed to help prospective applicants understand the grant programs and to assist applicants to prepare high quality grant applications. See NTIA, Notice of Open Meetings—NTIA Broadband Grant Programs Webinars, 86 FR 14882 (March 19, 2021). In this Notice, NTIA announces changes to the dates on which the webinars will be held. All other information in the March 19, 2021 Notice remains the same.

Dated: April 7, 2021.
Kathy Smith,
Chief Counsel, National Telecommunications and Information Administration.

[FR Doc. 2021-07451 Filed 4-9-21; 8:45 am]

BILLING CODE 3510-60-P